DEPARTMENT OF COMMERCE

Foreign-Trade Zones Board

[B-61-2020]

Foreign-Trade Zone (FTZ) 176—Rockford, Illinois, Authorization of Production Activity, Tricida Inc. (Pharmaceutical Products), Rockford, Illinois

On October 14, 2020, PCI Pharma Services, an operator within FTZ 176 in Rockford, Illinois, submitted a notification of proposed production activity to the FTZ Board on behalf of Tricida Inc.

The notification was processed in accordance with the regulations of the FTZ Board (15 CFR part 400), including notice in the Federal Register inviting public comment (85 FR 66929, October 21, 2020). On February 11, 2021, the applicant was notified of the FTZ Board's decision that no further review of the activity is warranted at this time. The production activity described in the notification was authorized, subject to the FTZ Act and the FTZ Board's regulations, including Section 400.14.

Dated: February 11, 2021.
Andrew McGilvray,
Executive Secretary.

[FR Doc. 2021-03143 Filed 2-16-21; 8:45 am]

BILLING CODE 3510-DS-P